DEPARTMENT OF COMMERCE

National Oceanic and Atmospheric Administration

[RTID 0648-XA286]

Endangered and Threatened Species; Take of Abalone

AGENCY: National Marine Fisheries Service (NMFS), National Oceanic and Atmospheric Administration (NOAA), Commerce.

ACTION: Notice of receipt; application to renew one scientific research permit.

SUMMARY: Notice is hereby given that NMFS has received a request to renew an existing scientific research permit. The proposed work is intended to increase knowledge of species listed under the Endangered Species Act (ESA) and to help guide management, conservation, and recovery efforts. The application may be viewed online at: https://apps.nmfs.noaa.gov/preview/preview_open_for_comment.cfm.

DATES: Comments or requests for a public hearing on the application must be received at the provided email address (see ADDRESSES) no later than 5 p.m. Pacific standard time on August 17, 2020.

ADDRESSES: Because all West Coast NMFS offices are currently closed, all written comments on the application should be submitted by email to nmfs.wcr-apps@noaa.gov. Please include the permit number (18761-2R) in the subject line of the email.

FOR FURTHER INFORMATION CONTACT: Susan Wang, Long Beach, CA (ph.: 562-980-4199, email: Susan.Wang@noaa.gov). Permit application instructions are available from the address above, or online at https://apps.nmfs.noaa.gov.

SUPPLEMENTARY INFORMATION:

Species Covered in This Notice

The following listed species are covered in this notice:

Endangered black abalone (Haliotis cracherodii).

Authority

Scientific research permits are issued in accordance with section 10(a)(1)(A) of the ESA (16 U.S.C. 1531 et seq.) and regulations governing listed fish and wildlife permits (50 CFR parts 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on the application listed in this notice should set out the specific reasons why a hearing on the application would be appropriate (see ADDRESSES). Such hearings are held at the discretion of the Assistant Administrator for Fisheries, NMFS.

Application Received

Permit 18761-2R

The University of California, Santa Cruz, has requested to renew a research permit to monitor the status and trends of endangered black abalone at sites throughout California for an additional five years. Under the previous permit, researchers surveyed black abalone populations at long-term monitoring sites throughout California. The data collected informed the five-year status update for black abalone (NMFS. 2018. Black Abalone (Haliotis cracherodii) Five-Year Status Review: Summary and Evaluation). Researchers also tested the feasibility of recruitment modules and were able to successfully deploy and maintain the modules at a few sites.

This renewal request would allow researchers to track population trends at long-term monitoring sites and deploy recruitment modules at a few sites for an additional five years. The renewal request differs from the previous permit in that it does not include pilot translocation studies using the recruitment modules; these studies were proposed but not conducted under the previous permit. In addition, the renewal request includes two new components: (1) Habitat surveys to assess black abalone habitat associations along segments of the coast, and (2) collection of tissue samples for genetic analysis. The activities proposed in the renewal request would benefit black abalone by providing valuable long-term monitoring data on black abalone numbers, sizes, spatial distribution, habitat, recruitment, genetic diversity, and health throughout the coast. These data will inform our assessments of black abalone status and recovery.

Proposed activities include:

(1) Continued annual surveys of black abalone populations at established long-term rocky intertidal monitoring sites;

(2) Abalone habitat surveys to document black abalone densities, habitat quality, and habitat associations along segments of the coast;

(3) One-time or more frequent monitoring as needed for projects (e.g., jetty or breakwater repair) or in response to unexpected circumstances (e.g., oil spills, mudslides); and

(4) Deployment of recruitment modules to monitor juvenile recruitment.

Monitoring would consist primarily of non-lethal, non-capture take to measure and count abalone. Tissue samples would be collected using non-lethal methods for genetic analysis. Abalone would not be removed from the substrate. At a few experimental sites, recruitment modules would be deployed in crevice habitat to monitor juvenile recruitment. Researchers would be permitted to collect dead or obviously dying black abalone for further analysis to determine the cause of death and to detect disease outbreaks. Researchers would also be permitted to collect empty black abalone shells for research, outreach, and educational purposes. The information resulting from the activities outlined above would be used to track black abalone status and recovery, evaluate their health and genetic population structure, and better understand habitat their preferences to help in their recovery.

This notice is provided pursuant to section 10(c) of the ESA. NMFS will evaluate the application, associated documents, and comments submitted to determine whether the application meets the requirements of section 10(a) of the ESA and Federal regulations. The final permit decision will not be made until after the end of the 30-day comment period. NMFS will publish notice of its final action in the Federal Register.

Dated: July 14, 2020.
Angela Somma,
Chief, Endangered Species Division, Office of Protected Resources, National Marine Fisheries Service.

[FR Doc. 2020-15531 Filed 7-16-20; 8:45 am]

BILLING CODE 3510-22-P